NUCLEAR REGULATORY COMMISSION

[NRC-2011-0191]

Draft License Renewal Interim Staff Guidance LR-ISG-2011-05: Ongoing Review of Operating Experience

AGENCY: Nuclear Regulatory Commission.

ACTION: Revision of draft interim staff guidance; request for public comment.

SUMMARY: On August 24, 2011, in the Federal Register (76 FR 52995), the U.S. Nuclear Regulatory Commission (NRC) requested public comments on Draft License Renewal Interim Staff Guidance (LR-ISG), LR-ISG-2011-05, “Ongoing Review of Operating Experience.” This LR-ISG provides guidance and clarification concerning ongoing review of plant-specific and industry-wide operating experience as an attribute of aging management programs used at nuclear power plants. As noticed on September 20, 2011 (76 FR 58311), the public comment period was extended and, as of October 23, 2011, is now closed. However, since issuing the draft LR-ISG for public comment, the NRC has identified the need to incorporate additional guidance. As such, the NRC is re-issuing draft LR-ISG-2011-05 to request public comments on the changes.

DATES: The comment period on the revised draft LR-ISG-2011-05 expires on December 15, 2011. Comments received after this date will be considered, if it is practical to do so, but the NRC is able to ensure consideration only for comments received on or before this date.

ADDRESSES: Please include Docket ID NRC-2011-0191 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0191. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Mr. Matthew Homiack, Division of License Renewal, Office of Nuclear Reactor Regulation, U.S. Nuclear Regulatory Commission, Washington, DC 20555-0001; telephone: (301) 415-1683; or email: Matthew.Homiack@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this notice using the following methods:

• NRC's Public Document Room: The public may examine and have copied, for a fee, publicly available documents at the NRC's Public Document Room, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The revised draft LR-ISG-2011-05 is available electronically under ADAMS Accession No. ML11293A022. In this document, bars in the margin denote changes to the draft LR-ISG since it was initially issued for public comment.

• Federal Rulemaking Web site: Public comments and supporting materials related to this notice can be found at http://www.regulations.gov by searching on Docket ID NRC-2011-0191.

• NRC's Interim Staff Guidance Web site: LR-ISG documents are available online under the “License Renewal” heading at http://www.nrc.gov/reading-rm/doc-collections/#int.

Background

The NRC issues LR-ISG to communicate insights and lessons learned and to address emergent issues not covered in license renewal guidance documents, such as NUREG-1801, Revision 2, “Generic Aging Lessons Learned (GALL) Report” (ADAMS Accession No. ML103490041), and NUREG-1800, Revision 2, “Standard Review Plan for Review of License Renewal Applications for Nuclear Power Plants” (SRP-LR) (ADAMS Accession No. ML103490036). In this way, the NRC staff and stakeholders may use the guidance in an LR-ISG document until it is incorporated into a formal license renewal guidance document revision. The NRC staff issues LR-ISG in accordance with the LR-ISG Process, Revision 2 (ADAMS Accession No. ML100920158), for which a notice of availability was published in the Federal Register on June 22, 2010 (75 FR 35510).

The NRC staff developed draft LR-ISG-2011-05 to clarify guidance on how the ongoing review of operating experience should be used to ensure the effectiveness of the license renewal aging management programs used at nuclear power plants to meet the requirements of Title 10 of the Code of Federal Regulations (10 CFR) part 54, “Requirements for Renewal of Operating Licenses for Nuclear Power Plants.” The draft LR-ISG proposes to revise the NRC staff's recommended aging management programs in the GALL Report and the NRC staff's aging management review procedures and acceptance criteria in the SRP-LR.

On August 24, 2011, the NRC requested public comments on draft LR-ISG-2011-05. By letter dated August 29, 2011 (ADAMS Accession No. ML11242A114), the Nuclear Energy Institute (NEI) requested a 30-day extension to the comment period and a public meeting to discuss draft comments and questions concerning implementation of the LR-ISG. The NRC staff granted the NEI's requests, as noticed on September 20, 2011 (76 FR 58311). The public meeting was held on October 12, 2011, and the comment period was extended until October 23, 2011.

Since first issuing draft LR-ISG-2011-05 for comment, the NRC has identified the need to include additional guidance on areas where license renewal applicants should ensure their programmatic activities for operating experience reviews are appropriate for considering operating experience related to aging management. The NRC identified the need for this additional guidance through its ongoing reviews of license renewal applications and through recent insights gained on how nuclear power plant licensees carry out their operating experience review activities. The additional guidance covers areas where enhancements may need to be made for license renewal, such as the specific kind of information that should be considered as operating experience; the training of plant personnel who screen, assign, evaluate, and submit operating experience information; information to consider in operating experience evaluations; criteria for identifying and categorizing operating experience as related to aging; and guidelines for reporting operating experience on age-related degradation to the industry. The NRC staff outlined these changes at the October 12, 2011, public meeting, and is now requesting public comments on them. The revised draft LR-ISG-2011-05 includes change bars in the margin to help comment providers identify those areas that have changed. By this action, the NRC is requesting comments on these changes.

The NRC will make a final determination regarding issuance of the LR-ISG after considering comments received in response to this request, in addition to those comments received in response to the original request.

For the Nuclear Regulatory Commission.
Dated at Rockville, Maryland, this 16th day of November, 2011.
Melanie A. Galloway,
Acting Director, Division of License Renewal, Office of Nuclear Reactor Regulation.

[FR Doc. 2011-30397 Filed 11-23-11; 8:45 am]

BILLING CODE 7590-01-P